NUCLEAR REGULATORY COMMISSION

[NRC-2009-0468]

Appointments to Performance Review Boards for Senior Executive Service

AGENCY: U.S. Nuclear Regulatory Commission.

ACTION: Appointment to Performance Review Boards for Senior Executive Service.

SUMMARY: The U.S. Nuclear Regulatory Commission (NRC) has announced the following appointments to the NRC Performance Review Boards.

The following individuals are appointed as members of the NRC Performance Review Board (PRB) responsible for making recommendations to the appointing and awarding authorities on performance appraisal ratings and performance awards for Senior Executives and Senior Level employees:

Darren B. Ash, Deputy Executive Director for Corporate Management, Office of the Executive Director for Operations.

R. W. Borchardt, Executive Director for Operations.

Stephen G. Burns, General Counsel.

Elmo E. Collins, Jr., Regional Administrator, Region IV.

Margaret M. Doane, Director, Office of International Programs.

James E. Dyer, Chief Financial Officer.

Kathryn O. Greene, Director, Office of Administration.

Michael R. Johnson, Director, Office of New Reactors.

Eric J. Leeds, Director, Office of Nuclear Reactor Regulation.

Bruce S. Mallet, Deputy Executive Director for Reactor and Preparedness Programs, Office of the Executive Director for Operations.

Martin J. Virgilio, Deputy Executive Director for Materials, Waste, Research, State, Tribal, and Compliance Programs, Office of the Executive Director for Operations.

Michael F. Weber, Director, Office of Nuclear Material Safety and Safeguards.

The following individuals will serve as members of the NRC PRB Panel that was established to review appraisals and make recommendations to the appointing and awarding authorities for NRC PRB members:

Joseph R. Gray, Acting Deputy General Counsel, Office of the General Counsel.

Brian W. Sheron, Director, Office of Nuclear Regulatory Research.

Roy P. Zimmerman, Director, Office of Nuclear Security and Incident Response.

All appointments are made pursuant to Section 4314 of Chapter 43 of Title 5 of the United States Code.

DATES: Effective Date: October 27, 2009.

FOR FURTHER INFORMATION CONTACT: Secretary, Executive Resources Board, U.S. Nuclear Regulatory Commission, Washington, DC 20555, (301) 492-2076.

Dated at Bethesda, Maryland, this 20th day of October 2009.
For the Nuclear Regulatory Commission.
James F. McDermott,
Secretary, Executive Resources Board.

[FR Doc. E9-25783 Filed 10-26-09; 8:45 am]

BILLING CODE 7590-01-P